FEDERAL ELECTION COMMISSION

Sunshine Act Notices

Previously Announced Date and Time: Thursday, January 9, 2003, Meeting open to the public. This meeting was cancelled.

* * * * *

Date and Time: Tuesday, January 14, 2003 at 10 a.m.

Place: 999 E Street, NW., Washington, DC.

Status: This meeting will be closed to the public.

Items to be Discussed: Compliance matters pursuant to 2 U.S.C. § 437g.

Audits conducted pursuant to 2 U.S.C. § 438(b), and Title 26, U.S.C.

Matters concerning participation in civil actions or proceedings or arbitration.

Internal personnel rules and procedures or matters affecting a particular employee.

Date and Time: Thursday, January 16, 2003 at 10 a.m.

Place: 999 E Street, NW., Washington, DC (ninth floor).

Status: This meeting will be open to the public.

Items to be discussed: Correction and Approval of Minutes.

Draft Advisory Opinion 2002-14: Libertarian National Committee, Inc. by Counsel, William W. Hall.

Administrative Matters.

PERSON TO CONTACT FOR INFORMATION: Mr. Ron Harris, Press Officer, Telephone: (202) 694-1220.

Mary W. Dove,
Secretary of the Commission.

[FR Doc. 03-558 Filed 1-7-03; 3:53 pm]

BILLING CODE 6715-01-M